DEPARTMENT OF THE INTERIOR

National Park Service

[NPS-WASO-NAGPRA-NPS0035806; PPWOCRADN0-PCU00RP14.R50000]

Notice of Inventory Completion: Karshner Museum and Center for Culture & Arts, Puyallup, WA

AGENCY: National Park Service, Interior.

ACTION: Notice.

SUMMARY: In accordance with the Native American Graves Protection and Repatriation Act (NAGPRA), the Karshner Museum and Center for Culture & Arts has completed an inventory of human remains and has determined that there is a cultural affiliation between the human remains and Indian Tribes or Native Hawaiian organizations in this notice. The human remains were removed from Bristol Bay, AK.

DATES: Repatriation of the human remains in this notice may occur on or after June 8, 2023.

ADDRESSES: Karen S. Higgins, Karshner Museum and Center for Culture & Arts, 309 4th Street NE, Puyallup, WA 98372, telephone (253) 841-8748, email higginsks@puyallup.k12.wa.us.

SUPPLEMENTARY INFORMATION: This notice is published as part of the National Park Service's administrative responsibilities under NAGPRA. The determinations in this notice are the sole responsibility of the Karshner Museum and Center for Culture & Arts. The National Park Service is not responsible for the determinations in this notice. Additional information on the determinations in this notice, including the results of consultation, can be found in the inventory or related records held by the Karshner Museum and Center for Culture & Arts.

Description

Human remains representing, at minimum, one individual were removed from an unknown geographic location in Bristol Bay, AK. On an unknown date, possibly between 1953 and 1974, the human remains were donated to the Karshner Museum and Center for Culture & Arts by Dr. Donald W. Rennie, the nephew of the Museum's founder, Warner Karshner. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Karshner Museum and Center for Culture & Arts has determined that:

• The human remains described in this notice represent the physical remains of one individual of Native American ancestry.

• There is a relationship of shared group identity that can be reasonably traced between the human remains described in this notice and the Chignik Bay Tribal Council; Chignik Lake Village; Curyung Tribal Council; Egegik Village; Igiugig Village; Ivanof Bay Tribe; King Salmon Tribe; Kokhanok Village; Levelock Village; Manokotak Village; Naknek Native Village; Native Village of Aleknagik; Native Village of Chignik Lagoon; Native Village of Ekuk; Native Village of Ekwok; Native Village of Perryville; Native Village of Pilot Point; Native Village of Port Heiden; New Koliganek Village Council; New Stuyahok Village; Newhalen Village; Nondalton Village; Pedro Bay Village; Portage Creek Village (a.k.a. Ohgsenakale); South Naknek Village; Traditional Village of Togiak; Twin Hills Village; Ugashik Village; Village of Clarks Point; and the Village of Iliamna.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 8, 2023. If competing requests for repatriation are received, the Karshner Museum and Center for Culture & Arts must determine the most appropriate requestor prior to repatriation. Requests for joint repatriation of the human remains are considered a single request and not competing requests. The Karshner Museum and Center for Culture & Arts is responsible for sending a copy of this notice to the Indian Tribes identified in this notice.

Authority: Native American Graves Protection and Repatriation Act, 25 U.S.C. 3003, and the implementing regulations, 43 CFR 10.9, 10.10, and 10.14.

Dated: May 3, 2023.
Melanie O'Brien,
Manager, National NAGPRA Program.

[FR Doc. 2023-09768 Filed 5-8-23; 8:45 am]

BILLING CODE 4312-52-P